DEPARTMENT OF THE INTERIOR

Bureau of Land Management

[20X.LLAK930000.L13100000.DP0000.LXSSL0550000]

Notice of Availability of the National Petroleum Reserve in Alaska Integrated Activity Plan Draft Environmental Impact Statement

AGENCY: Bureau of Land Management, Interior.

ACTION: Notice of availability.

SUMMARY: In accordance with the National Environmental Policy Act of 1969, as amended, and the Naval Petroleum Reserves Production Act of 1976 (NPRPA), as amended, the Bureau of Land Management (BLM), Alaska State Office, has prepared the Draft Environmental Impact Statement (EIS) for the Integrated Activity Plan (IAP) for the National Petroleum Reserve in Alaska (NPR-A) and by this notice is announcing the opening of the public comment period. The BLM is also announcing that it will hold public meetings on the Draft EIS and subsistence-related hearings to receive comments on the Draft EIS and the potential to impact subsistence resources and activities.

DATES: Comments on the Draft EIS may be submitted in writing until 60 days after the Environmental Protection Agency's publication of Notice of Availability of the Draft EIS in the Federal Register. The BLM will hold public meetings in: Anaktuvuk Pass, Anchorage, Atqasuk, Fairbanks, Nuiqsut, Point Lay, Utqiagvik and Wainwright. A public hearing on subsistence resources and activities will occur in conjunction with the public meeting for the Draft EIS in the potentially affected communities of Anaktuvuk Pass, Atqasuk, Nuiqsut, Utqiagvik, Point Lay and Wainwright. The dates, times, and locations, of the meetings will be announced through local news media, newspapers, and the BLM website.

ADDRESSES: You may submit comments by any of the following methods:

• Website: https://www.blm.gov/programs/planning-and-nepa/plans-in-development/alaska/npr-a-iap-eis;

• Mail to: BLM, Alaska State Office, Attention—NPR-A IAP/EIS, 222 West 7th Avenue, #13, Anchorage, AK 99513-7599;

• Hand Delivery: BLM Alaska Public Information Center (Public Room), 222 W 7th Avenue (First Floor), Anchorage, Alaska; or

• BLM Alaska Public Information Center (Public Room), 222 University Avenue, Fairbanks, Alaska.

FOR FURTHER INFORMATION CONTACT: Stephanie Rice, 907-271-3202; by mail: Bureau of Land Management, 222 West 7th Avenue, #13, Anchorage, AK 99513-7599. You may also request to be added to the mailing list for the EIS. Documents pertaining to the EIS may be examined at http://www.blm.gov/alaska or at the BLM Alaska State Office, BLM Alaska Public Information Center (Public Room), 222 West 7th Avenue (First Floor), Anchorage, Alaska.

People who use a telecommunications device for the deaf (TDD) may call the Federal Relay Service (FRS) at 1-800-877-8339 to contact the above individual during normal business hours. The FRS is available 24 hours a day, 7 days a week, to leave a message or question with the above individual. You will receive a reply during normal business hours.

SUPPLEMENTARY INFORMATION: The BLM prepared a new IAP/EIS to determine the appropriate management of all BLM managed lands in the NPR-A in a manner consistent with existing statutory direction and Secretarial Order 3352. Secretarial Order 3352 directed the development of a schedule to “effectuate the lawful review and development of an IAP for the NPR-A that strikes an appropriate balance of promoting development while protecting surface resources.” The NPRPA, as amended, and its implementing regulations require oil and gas leasing in the NPR-A and the protection of surface values consistent with exploration, development and transportation of oil and gas. The IAP will serve to inform BLM's management of the NPR-A for all permissible uses. Specifically, the IAP/EIS considers and analyzes the environmental impact of various management alternatives, including the areas to offer for oil and gas leasing, and the indirect impacts that could result in consideration of the hypothetical development scenario. The alternatives analyze various terms and conditions (i.e., lease stipulations and required operating procedures) to permittees in the NPR-A, to properly balance oil and gas development and other activities with protection of surface resources. The lands comprising the NPR-A are approximately 23 million acres.

The purpose of the public comment period is to inform the public of the availability of the Draft EIS and solicit comments from the public. Information received during the public comment period will be used to develop the Final EIS.

Before including your address, phone number, email address, or other personal identifying information, be advised that your entire comment, including your identifying information, may be made publicly available at any time. While you may ask us in your comments to withhold your personal identifying information from public review, we cannot guarantee that we will be able to do so.

The BLM has worked with interested parties to identify the management decisions best suited to local, regional, and national needs and concerns, as well as to develop a range of alternatives that examines how best to balance development with protecting surface resources. Future on-the-ground actions requiring BLM approval, including potential exploration and development proposals, would require further NEPA analysis based on the site-specific proposal. Potential applicants would be subject to the terms of the new IAP/EIS Record of Decision; however, the BLM Authorized Officer may require additional site-specific terms and conditions before authorizing any oil and gas activity based on the project level NEPA analysis.

Section 810 of ANILCA requires BLM to evaluate the effects of the alternatives presented in the Draft EIS on subsistence activities, and to hold public hearings if it finds that any alternative may significantly restrict subsistence uses. The preliminary evaluation of subsistence impacts indicates that certain alternatives analyzed in the Draft EIS and the associated cumulative impacts may significantly restrict subsistence uses. Therefore, the BLM will hold public hearings on subsistence resources and activities in conjunction with the public meeting on the Draft EIS in the potentially affected communities of Anaktuvuk Pass, Atqasuk, Point Lay, Nuiqsut, Utqiagvik and Wainwright.

Authority: 16 U.S.C. 3120(a); 40 CFR 1506.6(b).

Chad B. Padgett,
State Director, Alaska.

[FR Doc. 2019-25513 Filed 11-22-19; 8:45 am]

BILLING CODE 4310-JA-P